DEPARTMENT OF COMMERCE

International Trade Administration

[A-552-802]

Certain Frozen Warmwater Shrimp From the Socialist Republic of Vietnam: Final Results of Antidumping Duty Administrative Review, 2017-2018

AGENCY: Enforcement and Compliance, International Trade Administration, Department of Commerce.

SUMMARY: On April 22, 2019, the Department of Commerce (Commerce) published in the Federal Register the preliminary results of the thirteenth administrative review of the antidumping duty order on certain warmwater shrimp from the Socialist Republic of Vietnam (Vietnam). Based upon our analysis of the comments received, we determine that sales by Fimex VN and Nha Trang Seaproduct Company were not made below normal value (NV) during the period of review (POR) February 1, 2017 through January 31, 2018.

DATES: Applicable August 27, 2019.

FOR FURTHER INFORMATION CONTACT: Irene Gorelik, AD/CVD Operations, Office VIII, Enforcement and Compliance, International Trade Administration, U.S. Department of Commerce, 1401 Constitution Avenue NW, Washington, DC 20230; telephone: (202) 482-6905.

SUPPLEMENTARY INFORMATION:

Background

On April 22, 2019, Commerce published the Preliminary Results.¹ On May 22, 2019, Fimex VN ² and Quang Minh Seafood Co., Ltd.³ filed case briefs. On May 28, 2019, the petitioner ⁴ filed its rebuttal brief.

¹ See Certain Frozen Warmwater Shrimp from the Socialist Republic of Vietnam: Preliminary Results of Antidumping Duty Administrative Review; 2017-2018, 84 FR 16648 (April 22, 2019) (Preliminary Results) and accompanying Preliminary Decision Memorandum.

² See Fimex VN's Letter, “Case Brief,” dated May 22, 2019.

³ See Quang Minh Seafood Co., Ltd.'s Letter, “Case Brief,” dated May 22, 2019.

⁴ Ad Hoc Shrimp Trade Action Committee (the petitioner). See Petitioner's Letter, “Rebuttal Brief,” dated May 28, 2019.

Scope of the Order ⁵

⁵ See Notice of Amended Final Determination of Sales at Less Than Fair Value and Antidumping Duty Order: Certain Frozen Warmwater Shrimp from the Socialist Republic of Vietnam, 70 FR 5152 (February 1, 2005) (Order).

The merchandise subject to the Order is certain frozen warmwater shrimp. The product is currently classified under the following Harmonized Tariff Schedule of the United States item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the Order is dispositive. A full description of the scope of the Order is available in the accompanying Issues and Decision Memorandum.⁶

⁶ See Memorandum, “Issues and Decision Memorandum for the Final Results,” dated concurrently with, and hereby adopted by, this notice (Issues and Decision Memorandum).

Analysis of Comments Received

All issues raised in the case and rebuttal briefs by parties to this review are addressed in the accompanying Issues and Decision Memorandum.⁷ A list of the issues which parties raised, and to which we respond in the Issues and Decision Memorandum is attached as Appendix I to this notice. The Issues and Decision Memorandum is a public document and is on file electronically via Enforcement and Compliance's Antidumping and Countervailing Duty Centralized Electronic Service System (ACCESS). ACCESS is available to registered users at http://access.trade.gov and in the Central Records Unit, Room B8024 of the main Commerce building. In addition, a complete version of the Issues and Decision Memorandum can be accessed directly on the internet at http://enforcement.trade.gov/frn/index.html. The signed Issues and Decision Memorandum and electronic versions of the Issues and Decision Memorandum are identical in content.

⁷ Id.

Final Determination of No Shipments

In the Preliminary Results, Commerce determined that 18 companies ⁸ under active review did not have any reviewable transactions during the POR. As we have not received any information to contradict this determination, Commerce determines that these 18 companies did not have any reviewable entries of subject merchandise during the POR, and will issue appropriate instructions that are consistent with our “automatic assessment” clarification, for these final results.

⁸ See Preliminary Results, 84 FR at 16648. These 18 companies are: (1) Au Vung One Seafood Processing Import & Export Joint Stock Company; (2) Au Vung Two Seafood Processing Import & Export Joint Stock Company; (3) Bien Dong Seafood Co., Ltd.; (4) BIM Foods Joint Stock Company also initiated as BIM Seafood Joint Stock Company; (5) Cafatex Corporation; (6) Xi Nghiep Che Bien Thuy Suc San Xuat Kau Cantho; (7) Taydo Seafood Enterprise; (8) Cam Ranh Seafoods; (9) Green Farms Joint Stock Company also initiated as Green Farms Seafoods Joint Stock Company; (10) Investment Commerce Fisheries Corporation (“INCOMFISH”) also initiated as Investment Commerce Fisheries Corporation (Incomfish); (11) Khanh Sung Co., Ltd.; (12) NGO BROS Seaproducts Import-Export One Member Company Limited (“NGO BROS Company”) also initiated as Ngo Bros Seaproducts Import-Export One Member Company Limited (“Ngo Bros. Co., Ltd.”), and Ngo Bros Seaproducts Import-Export One Member Company Limited (Ngo Bros); (13) Tacvan Frozen Seafood Processing Export Company also initiated as Tacvan Frozen Seafood Processing Export Company (Tacvan Seafoods Co.) and Tacvan Seafoods Company (“TACVAN”); (14) Thanh Doan Sea Products Import & Export Processing Joint Stock Company Thadimexco also initiated as Thanh Doan Sea Products Import & Export Processing Joint-Stock Company (THADIMEXCO); (15) Thong Thuan—Cam Ranh Seafood Joint Stock Company also initiated as Thong Thuan—Cam Ranh Seafood Joint Stock Company (T&T Cam Ranh) and Thong Thuan Cam Ranh Seafood Joint Stock Company (“T&T Cam Ranh”); (16) Thong Thuan Seafood Company Limited; (17) Trung Son Seafood Processing Joint Stock Company also initiated as Trung Son Corp.; and (18) Vinh Hoan Corp.

Final Results of Review

In the Preliminary Results, Commerce found that 67 companies for which a review was requested have not established eligibility for a separate rate and were considered to be part of the Vietnam-wide entity.⁹ We continue to find that, for the final results, these 67 companies remain ineligible for a separate rate (see Appendix II). Under Commerce's policy, the Vietnam-wide entity will not be under review unless a party specifically requests, or Commerce self-initiates, a review of the entity.¹⁰ Because no party requested a review of the Vietnam-wide entity, the entity is not under review and the entity's rate is not subject to change.

⁹ See Appendix II for a full list of the 67 companies (accounting for duplicate names initiated upon); see also Preliminary Results at Appendix II.

¹⁰ See Antidumping Proceedings: Announcement of Change in Department Practice for Respondent Selection in Antidumping Duty Proceedings and Conditional Review of the Nonmarket Economy Entity in NME Antidumping Duty Proceedings, 78 FR 65963 (November 4, 2013).

For companies for which a review was requested and that have established eligibility for a separate rate, Commerce determines that weighted-average dumping margins of zero percent exist for each during the period February 1, 2017 through January 31, 2018:

¹¹ Due to the issues we have had in past segments of the proceeding with variations of exporter names related to this Order, we remind exporters that the names listed in the rate box are the exact names, including spelling and punctuation which Commerce will provide to U.S. Customs and Border Protection (CBP) and which CBP will use to assess POR entries and collect cash deposits. Any names with punctuation variations, such as all capitalizations, dashes, periods, or commas, or abbreviations of the word Company to “Co.” and Limited to “Ltd.” can be confirmed by Commerce in the event CBP inquiries about such variations. Commerce reminds interested parties that claimed affiliates are not automatically added to an exporter's rate box unless Commerce has made an affiliation determination for that exporter in the instant, or in prior, segments of the proceeding. Furthermore, inclusion of alternate trade names in an exporter's rate box must be supported by evidence on the record that the alternate trade name: (1) Appears on the exporter's business license (as an exporter), and (2) appears on commercial documents for CBP's examination upon entry. See, e.g., Certain Frozen Warmwater Shrimp from the Socialist Republic of Vietnam: Final Results of Antidumping Duty Administrative Review, 2016-2017, 83 FR 46704 (September 14, 2018), and accompanying Issues and Decision Memorandum at Comment 3.

¹² Commerce has determined for these final results that Fimex VN and Sao Ta Seafood Factory are affiliated within the meaning of section 771(33) of the Act and comprise a single entity pursuant to 19 CFR 351.401(f). For a complete discussion of this determination, see Issues and Decision Memorandum at 3-6.

¹³ Commerce previously determined Nha Trang Seaproduct Company to be part of a single entity along with NT Seafoods Corporation, Nha Trang Seafoods—F89 Joint Stock Company, and NTSF Seafoods Joint Stock Company. See Certain Frozen Warmwater Shrimp from the Socialist Republic of Vietnam: Preliminary Results, Partial Rescission, and Request for Revocation, In Part, of the Fifth Administrative Review, 76 FR 12054, 12056 (March 4, 2012), unchanged in Certain Frozen Warmwater Shrimp from the Socialist Republic of Vietnam: Final Results and Final Partial Rescission of Antidumping Duty Administrative Review, 76 FR 56158 (September 12, 2011). As the single entity has not reported changes since the preceding administrative review regarding the corporate or legal structure of the companies within the single entity, we continue to find that these companies are affiliated and comprise a single entity to which we will assign a single rate.

Exporter ¹¹ | Weighted- average margin (percent)
Fimex VN, and Sao Ta Seafood Factory ¹² | 0.00
Nha Trang Seaproduct Company,¹³ and NT Seafoods Corporation, and Nha Trang Seafoods—F89 Joint Stock Company, and NTSF Seafoods Joint Stock Company | 0.00
Bac Lieu Fisheries Joint Stock Company | 0.00
Bentre Forestry and Aquaproduct Import-Export Joint Stock Company, aka FAQUIMEX | 0.00
C.P. Vietnam Corporation | 0.00
Cadovimex Seafood Import-Export and Processing Joint Stock Company | 0.00
Camau Frozen Seafood Processing Import Export Corporation, aka Camimex | 0.00
Camau Seafood Processing and Service Joint Stock Corporation, aka Camau Seafood Processing and Service Joint-Stock Corporation, aka CASES | 0.00
Can Tho Import Export Fishery Limited Company, aka CAFISH | 0.00
Cuulong Seaproducts Company, aka Cuulong Seapro | 0.00
Fine Foods Co, aka FFC | 0.00
Frozen Seafoods Factory No. 32 | 0.00
Hai Viet Corporation, aka HAVICO | 0.00
Kim Anh Company Limited | 0.00
Minh Hai Export Frozen Seafood Processing Joint-Stock Company, aka Minh Hai Jostoco | 0.00
Minh Hai Joint-Stock Seafood Processing Company, aka Sea Minh Hai, aka Seaprodex Minh Hai, aka Minh Hai Joint Stock Seafoods | 0.00
Ngoc Tri Seafood Joint Stock Company | 0.00
Q N L Company Limited | 0.00
Quoc Viet Seaproducts Processing Trading and Import-Export Co., Ltd | 0.00
Seaprimexco Vietnam, aka Seaprimexco | 0.00
Seafoods and Foodstuff Factory | 0.00
Taika Seafood Corporation | 0.00
Thong Thuan Company Limited | 0.00
Thuan Phuoc Seafoods and Trading Corporation | 0.00
Trang Khanh Trading Company Limited, aka Trang Khanh Seafood Co., Ltd | 0.00
Trong Nhan Seafood Company Limited | 0.00
UTXI Aquatic Products Processing Corporation | 0.00
Viet Foods Co., Ltd | 0.00
Viet I-Mei Frozen Foods Co., Ltd | 0.00
Vietnam Fish One Co., Ltd | 0.00
Vietnam Clean Seafood Corporation, aka Vina Cleanfood, aka Viet Nam Clean Seafood Corporation | 0.00

Disclosure and Public Comment

Normally, Commerce will disclose the calculations used in our analysis to parties in this review within five days of the date of publication of the notice of final results in the Federal Register, in accordance with 19 CFR 351.224(b). However, as we have made no changes to the margin calculations for Fimex VN or Nha Trang Seaproduct Company since the Preliminary Results, there are no final calculations to disclose for these final results.

Assessment Rates

Pursuant to section 751(a)(2)(A) of the Act and 19 CFR 351.212(b), Commerce will determine, and CBP shall assess, antidumping duties on all appropriate entries of subject merchandise in accordance with the final results of this review. Commerce intends to issue assessment instructions to CBP 15 days after the date of publication of these final results of review.

To determine whether the duty assessment rates are de minimis, in accordance with the requirement set forth in 19 CFR 351.106(c)(2), we calculated importer- (or customer-) specific ad valorem ratios based on the estimated entered value. As each respondent's weighted average dumping margin is zero or de minimis, or an importer- (or customer-) specific ad valorem rate is zero or de minimis, we will instruct CBP to liquidate appropriate entries without regard to antidumping duties.¹⁴

¹⁴ See 19 CFR 352.106(c)(2); and Antidumping Proceeding: Calculation of the Weighted-Average Dumping Margin and Assessment Rate in Certain Antidumping Proceedings; Final Modification, 77 FR 8101, 8103 (February 14, 2012).

Additionally, consistent with its assessment practice in non-market economy (NME) cases, if Commerce continues to determine that an exporter under review had no shipments of the subject merchandise, any suspended entries that entered under that exporter's case number (i.e., at that exporter's rate) will be liquidated at the NME-wide rate.¹⁵

¹⁵ For a full discussion of this practice, see Non-Market Economy Antidumping Proceedings: Assessment of Antidumping Duties, 76 FR 65694 (October 24, 2011).

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, a zero cash deposit will be required; (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be that for the Vietnam-wide entity; and (4) for all non-Vietnam exporters of subject merchandise which have not received their own rate, the cash deposit rate will be the rate applicable to the Vietnam exporter that supplied that non-Vietnam exporter. These deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This determination is issued and published in accordance with sections 751(a)(1) and 777(i)(1) of the Act and 19 CFR 351.221(b)(4).

Dated: August 20, 2019.
Jeffrey I. Kessler,
Assistant Secretary for Enforcement and Compliance.

Appendix I

List of Topics Discussed in the Issues and Decision Memorandum

I. Summary

II. Background

III. Scope of the Order

IV. Changes From the Preliminary Results

V. Discussion of the Issues

Comment 1: Separate Rate Status for Sao Ta Seafood Factory

Comment 2: Treatment of Quang Minh Seafood Co., Ltd.

VI. Recommendation

Appendix II

Companies Subject to Review Determined To Be Part of the Vietnam-Wide Entity

1. A & CDN Foods Co., Ltd.

2. Amanda Seafood Co., Ltd.

3. An Huy B.T Co. Ltd.

4. Anh Koa Seafood

5. Anh Minh Quan Joint Stock Company

6. Asia Food Stuffs Import Export Co., Ltd.

7. B.O.P Company Limited

8. B.O.P. Limited Co.

9. Binh Dong Fisheries Joint Stock Company

10. Binh Thuan Import—Export Joint Stock Company (THAIMEX)

11. Ca Mau Agricultural Products and Foodstuff Imp-Exp Joint Stock Company (Agrimexco Camau)

12. Cholimex Food Joint Stock Company

13. CJ Cau Tre Foods Joint Stock Company

14. CJ Freshway (FIDES Food System Co., Ltd.)

15. Coastal Fisheries Development Corporation (“COFIDEC”)

16. Danang Seaproducts Import-Export Corporation (SEADANANG)

17. Dong Do Profo., Ltd.

18. Dong Hai Seafood Limited Company

19. Dong Phuong Seafood Co., Ltd.

20. Duc Cuong Seafood Trading Co., Ltd.

21. Gallant Dachan Seafood Co., Ltd.

22. Gallant Ocean (Vietnam) Co., Ltd. also initiated as Gallant Ocean Viet Nam Co. Ltd.

23. Hanh An Trading Service Co., Ltd.

24. Hanoi Seaproducts Import & Export Joint Stock Corporation (Seaprodex Hanoi)

25. Hoa Trung Seafood Corporation (HSC)

26. Hoang Phuong Seafood Factory

27. HungHau Agricultural Joint Stock Company

28. Huynh Huong Seafood Processing

29. Huynh Huong Trading and Import-Export Joint Stock Company

30. JK Fish Co., Ltd.

31. Kaiyo Seafood Joint Stock Company

32. Khai Minh Trading Investment Corporation

33. Khanh Hoa Seafoods Exporting Company (KHASPEXCO)

34. Lam Son Import-Export Foodstuff Company Limited (Lamson Fimexco)

35. Long Toan Frozen Aquatic Products Joint Stock Company

36. Minh Bach Seafood Company Limited

37. Minh Cuong Seafood Import Export Processing Joint Stock Company (“MC Seafood”), also initiated as Minh Cuong Seafood Import-Export Processing (“MC Seafood”)

38. Minh Phu Seafood Corporation

39. My Son Seafoods Factory

40. Nam Hai Foodstuff and Export Company Ltd

41. Namcan Seaproducts Import Export Joint Stock Company (Seanamico)

42. New Wind Seafood Co., Ltd.

43. Nha Trang Fisheries Joint Stock Company, also initiated as Nha Trang Fisheries Joint Stock Company (“Nha Trang Fisco”)

44. Nhat Duc Co., Ltd.

45. Nigico Co., Ltd.

46. Phu Cuong Jostoco Corp., also initiated as Phu Cuong Jostoco Seafood Corporation

47. Phu Minh Hung Seafood Joint Stock Company

48. Phuong Nam Foodstuff Corp., also initiated as Phuong Nam Foodstuff Corp., Ltd.

49. Quang Minh Seafood Co., Ltd.

50. Quoc Ai Seafood Processing Import Export Co., Ltd.

51. Quoc Toan Seafood Processing Factory (Quoc Toan PTE)

52. Quy Nhon Frozen Seafoods Joint Stock Company

53. Saigon Aquatic Product Trading Joint Stock Company (APT Co.)

54. Saigon Food Joint Stock Company

55. Seafood Joint Stock Company No.4

56. South Ha Tinh Seaproducts Import-Export Joint Stock Company

57. Special Aquatic Products Joint Stock Company (SEASPIMEX VIETNAM)

58. T & P Seafood Company Limited

59. Tai Nguyen Seafood Co., Ltd.

60. Tan Phong Phu Seafood Co., Ltd. (“TPP Co., Ltd.”) also initiated as Tan Phong Phu Seafood Co., Ltd. (TPP Co. Ltd.)

61. Tan Thanh Loi Frozen Food Co., Ltd.

62. Thien Phu Export Seafood Processing Company Limited

63. Thinh Hung Co., Ltd.

64. Trang Corporation (Vietnam)

65. Trang Khan Seafood Co., Ltd.

66. Viet Nam Seaproducts—Joint Stock Company

67. Viet Phu Foods and Fish Corp.

[FR Doc. 2019-18372 Filed 8-26-19; 8:45 am]

BILLING CODE 3510-DS-P